DEPARTMENT OF TRANSPORTATION

Federal Aviation Administration

14 CFR Part 39

[Docket No. FAA-2024-1700; Project Identifier MCAI-2024-00266-B; Amendment 39-22777; AD 2024-13-03]

RIN 2120-AA64

Airworthiness Directives; Lindstrand Balloons Ltd. Hot Air Balloons

AGENCY: Federal Aviation Administration (FAA), DOT.

ACTION: Final rule; request for comments.

SUMMARY: The FAA is adopting a new airworthiness directive (AD) for certain Lindstrand Balloons Ltd. Model 42A, 56A, 60A, 69A, 77A, 90A, 105A, 120A, 150A, 180A, 210A, 240A, 260A, 310A, 69B, 77B, 90B, 105B, and Drinks Can hot air balloons. This AD was prompted by a report of degraded polyester filled Aramid (Kevlar) load tapes where the Kevlar core was exposed to ultraviolet light, which could compromise the residual strength of the tapes and the structural integrity of the hot air balloon envelope. This AD requires repetitively checking the hot air balloon envelope for damage (degraded, stretched, or frayed load tapes or exposed Kevlar core) and removing any damaged hot air balloon envelope from service. The FAA is issuing this AD to address the unsafe condition on these products.

DATES: This AD is effective July 12, 2024.

The FAA must receive comments on this AD by August 12, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1700; or in person at Docket Operations between 9 a.m. and 5 p.m., Monday through Friday, except Federal holidays. The AD docket contains this final rule, the mandatory continuing airworthiness information (MCAI), any comments received, and other information. The street address for Docket Operations is listed above.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Comments Invited

The FAA invites you to send any written data, views, or arguments about this final rule. Send your comments to an address listed under ADDRESSES. Include “Docket No. FAA-2024-1700; Project Identifier MCAI-2024-00266-B” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Guerin, Aviation Safety Engineer, FAA, 1600 Stewart Avenue, Suite 410, Westbury, NY 11590. Any commentary that the FAA receives which is not specifically designated as CBI will be placed in the public docket for this rulemaking.

Background

The Civil Aviation Authority (CAA), which is the aviation authority for the United Kingdom (UK), has issued UK CAA Emergency AD G-2024-0001-E, dated April 30, 2024 (also referred to as the MCAI), to correct an unsafe condition on all Lindstrand Technologies Limited hot air balloon envelopes with a date of manufacture after March 2017 fitted with polyester filled Aramid (Kevlar) load tapes. The MCAI states that during a 100-hour annual inspection of a hot air balloon envelope it was discovered that the polyester filled Aramid (Kevlar) load tapes were degraded due to ultraviolet exposure. Both horizontal and vertical load tapes were affected and there was significant distortion to the horizontal load tapes. In addition, in the area where the load tapes loop around the crown ring, the polyester failed completely and exposed the Kevlar core. The Aramid (Kevlar) load tapes were also stretched and frayed. The unsafe condition, if not addressed, could compromise the residual strength of the load tapes and the structural integrity of the hot air balloon envelope with consequent loss of control of the hot air balloon. To address the unsafe condition, the MCAI requires doing a visual inspection to determine the date of manufacture of the hot air balloon envelope, and if it is fitted with polyester filled Aramid (Kevlar) load tapes before further flight. If these are found, a 100-percent visual inspection for damage of the polyester filled Aramid (Kevlar) load tapes is required. If no damage is found, operators are required to amend the aircraft maintenance program to include a 100-percent visual inspection of both the horizontal and vertical load tapes before each flight. If damage is found, no further flight is permitted until the damage is rectified.

You may examine the MCAI in the AD docket at regulations.gov under Docket No. FAA-2024-1700.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD requires repetitively checking the hot air balloon envelope for damage and removing any damaged hot air balloon envelope from service. The check required in this AD may be performed by the owner/operator (pilot) holding at least a private pilot certificate and must be entered into the hot air balloon records showing compliance with this AD in accordance with 14 CFR 43.9(a) and 14 CFR 91.417(a)(2)(v). The record must be maintained as required by 14 CFR 91.417, 121.380, or 135.439. The pilot may perform this check because it only involves visually checking the envelope for damage and can be equally performed by a pilot or mechanic. This is an exception to the FAA's standard maintenance regulations.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because damage to polyester filled Aramid (Kevlar) load tapes degrades the residual strength of the load tapes and the structural integrity of the hot air balloon envelope, damaging the hot air balloon and leading to a forced emergency landing, which could injure balloon occupants and persons on the ground. Because this condition can develop quickly and can only be detected through a visual check, immediate action must be done before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Differences Between This AD and the MCAI

The MCAI identifies the design approval holder (DAH) as Lindstrand Technologies Limited, which is the DAH identified on the UK CAA type certificate. This AD identifies the DAH as Lindstrand Balloons Ltd. since this is on the FAA type certificate.

The MCAI requires operators to amend the aircraft maintenance program to include a 100-percent visual inspection of both the horizontal and vertical load tapes before each flight if no damage is found. This AD does not require the amendment to the maintenance program as these before-each-flight checks are required by this AD.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 277 hot air balloons of U.S. registry.

The FAA estimates the following costs to comply with this AD:

Estimated Costs
Action | Labor cost | Parts cost | Cost per product | Cost on U.S. operators
Check Aramid (Kevlar) load tapes for damage | 2 work-hours × $85 per hour = $170 (Per check cycle) | $0 | $170 (Per check cycle) | $47,090 (Per check cycle).

The FAA estimates the following costs to do any necessary action that would be required based on the results of the check. The agency has no way of determining the number of hot air balloons that might need this action:

On-Condition Costs
Action | Labor cost | Parts cost | Cost per product
Install a hot air balloon envelope | 0 work-hours × $85 per hour = $0 | $20,000 | $20,000

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-13-03 Lindstrand Balloons Ltd.: Amendment 39-22777; Docket No. FAA-2024-1700; Project Identifier MCAI-2024-00266-B.

(a) Effective Date

This airworthiness directive (AD) is effective July 12, 2024.

(b) Affected ADs

None.

(c) Applicability

This AD applies to Lindstrand Balloons Ltd. Model 42A, 56A, 60A, 69A, 77A, 90A, 105A, 120A, 150A, 180A, 210A, 240A, 260A, 310A, 69B, 77B, 90B, 105B, and Drinks Can hot air balloons, certificated in any category, having a date of manufacture after March 2017 and fitted with Aramid (Kevlar) load tapes.

Note 1 to paragraph (c): United Kingdom Civil Aviation Authority (UK CAA) Emergency AD G-2024-0001-E, dated April 30, 2024, includes figures that aid in the identification of Aramid (Kevlar) load tapes.

(d) Subject

Joint Aircraft System Component (JASC) Code 5102, Balloon Reports.

(e) Unsafe Condition

This AD was prompted by a report of degraded polyester filled Aramid (Kevlar) load tapes on a hot air balloon envelope where the Kevlar core was exposed to ultraviolet light. The FAA is issuing this AD to address the unsafe condition. The unsafe condition, if not addressed, could compromise the residual strength of the load tapes and the structural integrity of the hot air balloon envelope, with consequent loss of control of the hot air balloon.

(f) Compliance

Comply with this AD within the compliance times specified, unless already done.

(g) Required Actions

(1) Before each flight, do a visual check of the hot air balloon envelope Aramid (Kevlar) load tapes for damage (degraded, stretched, or frayed load tapes or an exposed Kevlar core).

(2) If damage is found during any check required by paragraph (g)(1) of this AD, before further flight, remove the hot air balloon envelope from service.

(3) The visual checks required by paragraph (g)(1) of this AD may be performed by the owner/operator (pilot) holding at least a private pilot certificate and must be entered into the aircraft records showing compliance with this AD in accordance with 14 CFR 43.9(a) and 91.417(a)(2)(v). The record must be maintained as required by 14 CFR 91.417, 121.380, or 135.439.

(h) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD and email to: 9-AVS-AIR-730-AMOC@faa.gov. If mailing information, also submit information by email. Before using any approved AMOC, notify your appropriate principal inspector, or lacking a principal inspector, the manager of the local Flight Standards District Office.

(i) Additional Information

(1) For more information about this AD, contact Fred Guerin, Aviation Safety Engineer, FAA, 1600 Stewart Avenue, Suite 410, Westbury, NY 11590; phone: (206) 231-2346; email: fred.guerin@faa.gov.

(2) For material identified in this AD that is not incorporated by reference, contact UK CAA, Aviation House, Beehive Ring Road, Crawley, West Sussex, RH6 0YR; phone: (+44) 0330 022 1500; email: enquiries@caa.co.uk; website: caa.co.uk.

(j) Material Incorporated by Reference

None.

Issued on June 21, 2024.
Victor Wicklund,
Deputy Director, Compliance & Airworthiness Division, Aircraft Certification Service.

[FR Doc. 2024-14072 Filed 6-24-24; 11:15 am]

BILLING CODE 4910-13-P